DEPARTMENT OF COMMERCE

National Oceanic and Atmospheric Administration

[RTID 0648-XE232]

Western Pacific Fishery Management Council; Public Meetings; Correction

AGENCY: National Marine Fisheries Service (NMFS), National Oceanic and Atmospheric Administration (NOAA), Commerce.

ACTION: Notice; corrections to public meeting agenda.

SUMMARY: The Western Pacific Fishery Management Council (Council) will hold its Fishery Rights of Indigenous People Standing Committee (SC), Executive and Budget SC, and its 200th Council meetings to take actions on fishery management issues in the Western Pacific Region.

DATES: The meetings will be held between September 20 and September 25, 2024. For specific times and agendas, see SUPPLEMENTARY INFORMATION.

ADDRESSES: The Fishery Rights of Indigenous People SC, Executive and Budget SC, and 200th Council meetings will be held as a hybrid meeting for members and the public, with a remote participation option available via Webex. In-person attendance for the Fishery Rights of Indigenous People SC and Executive and Budget SC meetings will be hosted at the Council office, 1164 Bishop Street, Suite 1400, Honolulu, HI 96813. In-person attendance for the 200th Council meeting will be hosted at the Ala Moana Hotel, Hibiscus Ballroom, 410 Atkinson Drive, Honolulu, HI 96814.

Specific information on joining the meeting, connecting to the web conference and providing oral public comments will be posted on the Council website at https://www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The original notice published in the Federal Register on August 26, 2024 (89 FR 68400). This notice changes the agenda for the Fishery Rights of Indigenous People Standing Committee (SC), Executive and Budget SC, and its 200th Council meetings. All other information previously published remains unchanged.

Agenda items noted as “Final Action” refer to actions that may result in Council transmittal of a proposed fishery management plan, proposed plan amendment, or proposed regulations to the U.S. Secretary of Commerce, under Sections 304 or 305 of the Magnuson-Stevens Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 200th Council meeting will be available at https://www.wpcouncil.org. Written public comments on final action items at the 200th Council meeting should be received at the Council office by 5 p.m. HST, Thursday, September 19, 2024, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Revised Agenda for the Fishery Rights of Indigenous People SC Meeting

Friday, September 20, 2024, 10 a.m. to 12 p.m. HST

1. Introductions and Approval of Agenda

2. Equity and Environmental Justice (EEJ)

A. Pacific Islands Regional EEJ Plan

B. Report of Main Hawaiian Islands (MHI) EEJ Meetings

C. 2025 Council Coordinating Committee (CCC) EEJ National Workshop Update

3. Report on Re-Naming of the Pacific Remote Islands Marine National Monument

4. Status of Pacific Remote Island Areas (PRIA) and Northwest Hawaiian Islands (NWHI) Sanctuary Proposals

5. Status of the Green Sea Turtle

6. Development of a Council Indigenous Committee

7. Review of Cultural Protocols for American Samoa, Guam and CNMI

8. Review of the Council's Land Acknowledgement Statement

9. Other Business

10. Public Comment

11. Discussion and Recommendations

Revised Agenda for the Executive and Budget SC Meeting

Friday, September 20, 2024, 1 p.m. to 5 p.m. HST

1. Introductions and Approval of Agenda

2. Financial Reports

3. Administrative Reports

4. Council Family Changes

5. Meetings and Workshops

6. Legislation and Administration

7. Statement of Organization Practices and Procedures (SOPP) Revisions

8. Fishing Rights of Indigenous People SC Report

9. Other Business

10. Public Comment

11. Discussion and Recommendations

Revised Agenda for the 200th Council Meeting

Monday, September 23, 2024, 10 a.m. to 5 p.m. HST

1. Welcome and Introductions

2. Oath of Office

3. Approval of the 200th Council Meeting Agenda

4. Approval of the 199th Council Meeting Minutes

5. Executive Director's Report

6. Agency Reports

A. NMFS

A.1. Pacific Islands Regional Office

A.2. Pacific Islands Fisheries Science Center (PIFSC)

B. NOAA Office of General Counsel Pacific Islands Section

C. U.S. Coast Guard (USCG)

C.1. USCG Pacific Blue Mission

C.2. USCG Report

D. Enforcement

D.1. NOAA Office of Law Enforcement

D.2. NOAA Office of General Counsel Enforcement Section

E. U.S. State Department

F. U.S. Fish and Wildlife Service

G. Public Comment

H. Council Discussion and Action

7. Hawaii Archipelago and Pacific Remote Island Areas

A. Moku Pepa

B. Department of Land and Natural Resources/Division of Aquatic Resources Report

C. Annual Catch Limit Specifications for MHI Deep 7 Bottomfish (Final Action)

D. Report on Hawaii Non-commercial Fishery Data Meeting

E. Update on Hawaii Small-boat Fisheries

F. Advisory Group Report and Recommendations

F.1. Hawaii Advisory Panel

F.2. Fishing Industry Advisory Committee (FIAC)

F.3. Scientific and Statistical Committee (SSC)

G. Public Comment

H. Council Discussion and Action

8. Mariana Archipelago

A. Guam

A.1. Isla Informe

A.2. Department of Agriculture/Division of Aquatic and Wildlife Resources Report

A.3. Modifying the Guam Bottomfish Rebuilding Plan (Initial Action)

A.4. Guam Bottomfish Data for Future Assessments

A.4.a. Guam Bottomfish Data for Next assessment

A.4.b. Chair's Report on Guam Bottomfish Data Western Pacific Stock Assessment Review

B. Commonwealth of the Northern Mariana Islands (CNMI)

B.1. Arongol Falú

B.2. Department of Lands and Natural Resources/Division of Fish and Wildlife Report

B.3. Update on CNMI Bottomfish Permit and Reporting

C. Advisory Group Report and Recommendations

C.1. Marianas Islands Advisory Panel

C.2. FIAC

C.3. SSC

D. Public Comment

E. Council Discussion and Action

Monday, September 23, 2024, 4:30 p.m. to 5 p.m. HST

Public Comment on Non-Agenda Items

Tuesday, September 24, 2024, 9 a.m. to 5 p.m. HST

9. Protected Species

A. Shallow-set Longline (SSLL) Tori Line Exempted Fishing Permit (EFP) Project Report

B. False Killer Whale Foreign Fleet Impacts Analysis

C. Endangered Species Act (ESA) and Marine Mammal Protection Act Updates

C.1. Overview of Sea Turtle Nursery and Rehabilitation Programs

C.2. Giant Clam ESA Listing Proposed Rule

C.3. Status of Coral and Green Sea Turtle Critical Habitat Designations

D. Advisory Group Report and Recommendations

D.1. Advisory Panels

D.2. FIAC

D.3. SSC

E. Public Comment

F. Council Discussion and Action

10. Pelagic and International

A. Mid-year Longline Reports

A.1. Hawaii Longline Logbook Report

A.2. American Samoa Longline Logbook Report

B. Options for Hawaii and American Samoa Longline Fisheries Crew Training Requirement

C. Electronic Monitoring Program Considerations Update

D. Review of MSA 304(i) Domestic Obligations for Western and Central North Pacific Striped Marlin (Initial Action)

E. International Fisheries

E.1. Science-Manager Dialogue

E.2. WCPFC Science Committee

E.3. Western and Central North Pacific Ocean Striped Marlin Rebuilding Plan

E.4. Inter-American Tropical Tuna Commission (IATTC) Science Advisory Subcommittee & General Advisory Committee Outcomes

E.5. Workshops on Illegal, Unreported and Unregulated Fishing

F. Advisory Group Report and Recommendations

F.1. Advisory Panels

F.2. FIAC

F.3. SSC

G. Public Comment

H. Council Discussion and Action

Wednesday, September 25, 2024, 9 a.m. to 5 p.m. HST

11. Program Planning

A. Status of Inflation Reduction Act Projects

B. Status of PRIA and NWHI Sanctuary Proposals

C. Status of Offshore Energy Development in the Western Pacific

D. Report of the National SSC Meeting

E. National/Regional Communications and Outreach Report

F. Advisory Group Report and Recommendations

F.1. Advisory Panels

F.2. FIAC

F.3. SSC

F.4. Fishery Data Collection and Research Committee

F.5. Fishing Rights of Indigenous People Standing Committee

G. Public Comment

H. Council Discussion and Action

12. American Samoa Archipelago

A. Motu Lipoti

B. Department of Marine and Wildlife Resources Report

C. Updates on the Super Alia Project

D. Advisory Group Report and Recommendations

D.1. American Samoa Advisory Panel

D.2. FIAC

D.3. SSC

E. Public Comment

F. Council Discussion and Action

13. Administrative Matters

A. Financial Reports

B. Administrative Reports

C. Council Family Changes

D. SOPP Changes

E. Meetings and Workshops

F. Executive and Budget Standing Committee Report

G. Public Comment

H. Council Discussion and Action

14. Other Business

Non-emergency issues not contained in this agenda may come before the Council for discussion and formal Council action during its 200th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 28, 2024.
Alyssa Weigers,
Acting Deputy Director, Office of Sustainable Fisheries, National Marine Fisheries Service.

[FR Doc. 2024-19705 Filed 8-30-24; 8:45 am]

BILLING CODE 3510-22-P